INTERNATIONAL BOUNDARY AND WATER COMMISSION, UNITED STATES AND MEXICO

United States Section; Notice of Intent To Prepare an Environmental Impact Statement, Increased Flood Protection and Partial Realignment of the Presidio Flood Control Project Along Rio Grande on the Texas-Mexico Border

AGENCY: United States Section, International Boundary and Water Commission, United States and Mexico.

ACTION: Notice of Intent to prepare an Environmental Impact Statement (EIS).

SUMMARY: This notice advises the public that pursuant to section 102(2)(c) of the National Environmental Policy Act (NEPA) of 1969, as amended, the United States Section, International Boundary and Water Commission (USIBWC) intends to prepare an Environmental Impact Statement (EIS) for the proposed action to increase flood protection capability and partial levee realignment of the Presidio Flood Control Project (FCP) along the Texas-Mexico Border. This notice is being provided as required by the Council on Environmental Quality Regulations (40 CFR 1501.7) and the USIBWC's Operating Procedures for Implementing Section 102 of the National Environmental Policy Act (NEPA), to obtain suggestions and information from other agencies and the public on the scope of issues to be addressed in the EIS. A public meeting will be held in the city of Presidio, Texas.

DATES: The USIBWC will conduct a public meeting at the following location and date: City of Presidio, Presidio Activities Center, 1200 East O'Reilly Street, Presidio, Texas 79845 on March 10, 2009, at 5 p.m. CST. Full public participation by interested federal, state, and local agencies, as well as other interested organizations and the general public, is encouraged during the scoping process. The USIBWC anticipates release of the Draft EIS for agency and public review in September 2009.

FOR FURTHER INFORMATION CONTACT: Mr. Daniel Borunda, Environmental Protection Specialist, Environmental Management Division, USIBWC, 4171 North Mesa Street, C-100, El Paso, Texas 79932 or e-mail: danielborunda@ibwc.gov.

SUPPLEMENTARY INFORMATION:

Proposed Action

The USIBWC operates and maintains the Presidio Flood Control Project (FCP) located along the Rio Grande within the city of Presidio, Texas. The FCP extends approximately 15 miles, from Haciendita, upstream of the Rio Conchos confluence, and ending downstream of Presidio near Alamito Creek. In September and October 2008, the Presidio FCP levees sustained major flood damage from overtopping, seepage, and erosion. The USIBWC intends to prepare an EIS to assess impacts associated with rehabilitating the levee system; increasing flood control capability; and partial levee system realignment.

Alternatives

The current Presidio FCP levee system would be rehabilitated for its current level of protection against a 25-year frequency flood, or raised to meet a 100-year flood containment design capacity. Levee height increases would expand the current levee footprint and require additional right-of-way acquisition. In-place rehabilitation is anticipated along approximately 9 miles in the upper reach of the Presidio FCP. Current alignment of the levee system in the upper reach would be retained for levee rehabilitation for raising levee height to reach the 100-year flood containment design capacity. Approximately 6 miles of this segment overlap with an area where the U.S. Department of Homeland Security (DHS) intends to construct border fencing. One option under consideration by DHS is to incorporate a border wall into the USIBWC levee. Along the 6 mile segment in the lower reach of the Presidio FCP, where flood damage was more extensive, a number of levee realignment options are under consideration. To reach the 100-year flood containment design capacity, the primary realignment under consideration is partial levee relocation, approximately 500 feet inland from its current alignment. Other options under consideration are the construction of a new spur levee beginning approximately 1.5 miles downstream of the Railroad Bridge. The proposed spur levee would follow a northeastward alignment and intersect Highway 170.

The NEPA analysis and documentation will identify and evaluate all relevant impacts, conditions, and issues associated with the proposed alternative actions. In considering a range of alternatives, including the no action alternative, the EIS will explain proposed flood protection improvements; identify, describe, and evaluate the existing environmental, cultural, sociological and economical resources; and evaluate the impacts associated with the alternatives under consideration. Significant issues which have been identified to be addressed in the EIS include but are not limited to impacts to water resources, water quality, cultural and biological resources, and threatened and endangered species. Close coordination will be maintained with the United States Fish and Wildlife Service and the Texas State Historic Preservation Officer to ensure compliance with applicable biological and cultural resources regulations. Other federal and state agencies will also be consulted, as required, to ensure compliance with all applicable federal and state laws and regulations.

Dated: February 20, 2009.
Robert McCarthy,
General Counsel.

[FR Doc. E9-4092 Filed 2-25-09; 8:45 am]

BILLING CODE 7010-01-P